NATIONAL COUNCIL ON DISABILITY

Sunshine Act Meetings

TIME AND DATES: The Members of the National Council on Disability (NCD) will meet by phone on Tuesday, June 28, 2011, 2 p.m.-4 p.m. ET.

PLACE: The meeting will occur by phone. NCD staff will participate in the call from the NCD office at 1331 F Street, NW., Suite 850, Washington, DC 20004. Interested parties may join the meeting in person at the NCD office or may join the phone line in a listening-only capacity using the following call-in information: Call-in number: 1-877-723-9522; Passcode: 1331. If asked, the conference call's leader's name is A. Bishop.

MATTERS TO BE CONSIDERED: The Council will meet by phone to discuss and vote on fiscal year 2011 allocations.

CONTACT PERSON FOR MORE INFORMATION: Anne Sommers, NCD, 1331 F Street, NW., Suite 850, Washington, DC 20004; 202-272-2004 (V), 202-272-2074 (TTY).

ACCOMMODATIONS: Those who plan to attend and require accommodations should notify NCD as soon as possible to allow time to make arrangements.

Dated: June 15, 2011.
Aaron Bishop,
Executive Director.

[FR Doc. 2011-15182 Filed 6-15-11; 11:15 am]

BILLING CODE 6820-MA-P